DEPARTMENT OF ENERGY

Federal Energy Regulatory Commission

[Docket No. EC00-83-001]

Potomac Edison Company, Allegheny Energy Supply Company, L.L.C., PE Transferring Agent, L.L.C., [To be Named], L.L.C., and Green Valley Hydro, LLC; Notice of Filing

June 13, 2000.

Take notice that on June 8, 2000, Potomac Edison Company (Potomac), Allegheny Energy Supply Company, L.L.C. (AE Supply), PE Transferring Agent, L.L.C., [To be named], L.L.C., and Green Valley Hydro, LLC (Green Valley), (collectively, Applicants) tendered for filing an amendment to their April 26, 2000, application in this proceeding. In the amendment, Applicants request Commission authorization to permit Potomac to transfer the following assets to AE Supply: (1) The shares of jurisdictional step-up transformers allocable to Potomac's Maryland, West Virginia and Virginia service areas (excluding Potomac's Virginia hydroelectric assets); (2) securities evidencing Potomac's ownership share of Allegheny Generating Company; (3) certain wholesale power purchase and supply agreements, including those jurisdictional agreements Potomac may enter into between the date of the Application and the date of the proposed corporate reorganization; and (4) Potomac's pollution control and solid waste bonds associated with the transferred generating assets. The amendment requests authorization to transfer jurisdictional transmission facilities associated with Potomac's Virginia hydro electric facilities to Green Valley.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before June 23, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-15354 Filed 6-16-00; 8:45 am]

BILLING CODE 6717-01-M